FEDERAL COMMUNICATIONS COMMISSION

47 CFR Part 73

[DA 01-216, MM Docket No. 00-199; RM-9879]

Digital Television Broadcast Services; Hazleton, PA

AGENCY: Federal Communications Commission.

ACTION: Final rule.

SUMMARY: The Commission, at the request of WOLF License Corporation, licensee of Station WOLF-TV, substitutes DTV Channel 45 for DTV Channel 9 at Hazleton, Pennsylvania. See 65 FR 41621, July 6, 2000. DTV Channel 45 can be allotted to Hazleton at coordinates (41-11-00 N. and 75-52-10 W.) with a power of 546, HAAT of 488 meters, and with a DTV service population of 1787 thousand. Since Hazleton is located within 400 kilometers of the U.S.-Canadian border, concurrence of the Canadian government has been obtained for this allotment. With this action, this proceeding is terminated.

DATES: Effective March 19, 2001.

FOR FURTHER INFORMATION CONTACT: Pam Blumenthal, Mass Media Bureau, (202) 418-1600.

SUPPLEMENTARY INFORMATION: This is a synopsis of the Commission's Report and Order, MM Docket No. 00-119, adopted January 31, 2001, and released February 1, 2001. The full text of this Commission decision is available for inspection and copying during normal business hours in the FCC Reference Center, 445 12th Street, S.W., Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Pennsylvania, is amended by removing DTV Channel 9 and adding DTV Channel 45 at Hazleton.

Federal Communications Commission.
Barbara A. Kreisman,
Chief, Video Services Division, Mass Media Bureau.

[FR Doc. 01-3016 Filed 2-5-01; 8:45 am]

BILLING CODE 6712-01-M